DEPARTMENT OF AGRICULTURE

Rural Utilities Service

Brazos Electric Power Cooperative Inc.: Notice of Intent To Hold a Public Scoping Meeting and Prepare an Environmental Assessment

AGENCY: Rural Utilities Service, USDA.

ACTION: Notice of intent to hold a public scoping meeting and prepare an Environmental Assessment.

SUMMARY: The Rural Utilities Service (RUS), an Agency delivering the United States Department of Agriculture (USDA) Rural Development Utilities Programs, hereinafter referred to as Rural Development, intends to hold a public scoping meeting and prepare an Environmental Assessment (EA) related to possible financial assistance to Brazos Electric Power Cooperative, Inc. (Brazos) of Waco, Texas, for the proposed construction of approximately 600 MW gas-fired unit at the existing Jack County Generating Facility. Brazos is requesting USDA Rural Development to provide financial assistance for the proposal.

DATES: USDA Rural Development will hold a scoping meeting in an open house format in order to provide information and solicit comments for the preparation of an EA. The meeting will be held on January 31, 2008, from 5 to 8 p.m. at the Twin Lakes Community Center, 420 Highway 59, Jacksboro, Texas. All written questions and comments must be received by March 3, 2008.

ADDRESSES: To send comments or for further information, contact: Dennis Rankin, Environmental Protection Specialist, USDA, Rural Development Utilities Programs, Engineering and Environmental Staff, 1571, 1400 Independence Avenue, SW., Stop 1571, Washington, DC 20250-1571, or e-mail: dennis.rankin@wdc.usda.gov. An Alternative Evaluation/Site Selection Study is available for public review at USDA Rural Development offices at 1400 Independence Avenue, SW., Washington, DC 20250-1571 and at the following Web site http://www.usda.gov/rus/water/ees/ea.htm.

SUPPLEMENTARY INFORMATION: Brazos is proposing to construct an additional 500 MW gas-fired combustion turbine at its Jack County Generation Station. The site is located northeast of State Highway 199 and FM 1156 in Jack County and southeast of the intersection of Shepard Road/Henderson Ranch Rd. and FM 1156.

Government agencies, private organizations, and the public are invited to participate in the planning and analysis of the proposal. Representatives from USDA Rural Development and Brazos will be available at the scoping meeting to discuss USDA Rural Development's environmental review process, describe the project, the purpose and need for the proposal, discuss the scope of environmental issues to be considered, answer questions, and accept oral and written comments.

Written comments received by the due date will be incorporated into the EA Brazos and will be submitted to USDA Rural Development for review. USDA Rural Development will use the EA to determine the significance of the impacts of the project and may adopt it as its environmental assessment of the project. USDA Rural Development's environmental assessment of the proposal would be available for review and comment for 30 days.

Should USDA Rural Development determine that the preparation of an Environmental Impact Statement is not necessary, it will prepare a Finding of No Significant Impact. Public notification of a Finding of No Significant Impact would be published in the Federal Register and in newspapers with circulation in the project area.

Any final action by USDA Rural Development related to the proposed proposal will be subject to, and contingent upon, compliance with all relevant federal, state, and local environmental laws and regulations and completion of the environmental review procedures as prescribed by USDA Rural Development Environmental Policies and Procedures (7 CFR part 1794).

Dated: January 14, 2008.
Mark S. Plank,
Director, Engineering and Environmental Staff, USDA/Rural Development/Utilities Programs.

[FR Doc. E8-957 Filed 1-18-08; 8:45 am]

BILLING CODE 3410-15-P